DEPARTMENT OF THE INTERIOR

Geological Survey

[GX24GH00COM0000]

Public Meeting of the National Volcano Early Warning System Advisory Committee

AGENCY: U.S. Geological Survey, Department of the Interior.

ACTION: Notice of public meeting.

SUMMARY: In accordance with the Federal Advisory Committee Act (FACA) of 1972, the U.S. Geological Survey (USGS) is publishing this notice to announce that a Federal Advisory Committee meeting of the National Volcano Early Warning System Advisory Committee (NVEWSAC) will take place and is open to members of the public.

DATES: The meeting will be held on Wednesday, September 18, 2024, from 9:00 a.m. to 5:00 p.m.; and on Thursday, September 19, 2024, from 9:00 a.m. to 3:00 p.m. Pacific Standard Time.

ADDRESSES: The meeting will be held in the TownPlace Suites, 17717 SE Mill Plain Blvd., Vancouver, WA 98683. Members of the public may attend the meeting in person or can attend via webinar. Comments can be sent by email to gmayberry@usgs.gov.

FOR FURTHER INFORMATION CONTACT: Gari Mayberry, Volcano Hazard Program Coordinator, USGS, by mail at 12201 Sunrise Valley Drive, MS 905, Reston, VA 20192; by email at gmayberry@usgs.gov; or by telephone at (703) 648-6711.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: This meeting is being held under the provisions of the FACA of 1972 (5 U.S.C. Ch. 10), the Government in the Sunshine Act of 1976 (5 U.S.C. 552b, as amended), and 41 CFR part 102-3.

Purpose of the Meeting: The NVEWSAC provides advice and recommendations to the Secretary of the Interior through the Director of the USGS on the implementation of the National Volcano Early Warning and Monitoring System (NVEWS). Additional information about the NVEWSAC is available.

Agenda Topics:

—USGS and the Volcano Hazards Program

—Volcano Science Center and the USGS observatory system

—NVEWS

—The NVEWS Fumes Act

—NVEWSAC member updates

—Plan development progress

—Public comments

Meeting Accessibility/Special Accommodations: Please make requests in advance for sign language interpreter services, assistive listening devices, language translation services, or other reasonable accommodations. We ask that you contact the person listed in the FOR FURTHER INFORMATION CONTACT section of this notice at least seven (7) business days prior to the meeting to give the Department of the Interior sufficient time to process your request. All reasonable accommodation requests are managed on a case-by-case basis. Seating for in-person attendees may be limited due to room capacity. Webinar/conference line instructions will be provided to registered attendees prior to the meeting. Please contact the person listed in the FOR FURTHER INFORMATION CONTACT section to register for the meeting.

Public Disclosure of Comments: There will be an opportunity for public comment each day of the meeting. Depending on the number of people who wish to speak and the time available, the time for individual comments may be limited. Written comments may also be sent to the NVEWSAC for consideration. To allow for full consideration of information by NVEWSAC members, written comments must be provided to Gari Mayberry (see FOR FURTHER INFORMATION CONTACT) at least three (3) business days prior to the meeting. Any written comments received will be provided to NVEWSAC members before the meeting.

Before including your address, phone number, email address, or other personally identifiable information (PII) in your comment, you should be aware that your entire comment—including your PII—may be made publicly available at any time. While you may ask us in your comment to withhold your PII from public review, we cannot guarantee that we will be able to do so.

Members of the public wishing to participate in the meeting should contact Gari Mayberry by email at gmayberry@usgs.gov at least three (3) business days prior to the meeting. Meeting information, participation information, and the final agenda will be provided via email to registered participants.

Authority: 5 U.S.C. Ch. 10.

Gary Latzke,
Chief of Staff, Natural Hazards Mission Area, United States Geological Survey.

[FR Doc. 2024-19455 Filed 8-28-24; 8:45 am]

BILLING CODE 4338-11-P